DEPARTMENT OF ENERGY

Federal Energy Regulatory Commission

Combined Notice of Filings #1

Take notice that the Commission received the following electric corporate filings:

Docket Numbers: EC16-122-000.

Applicants: Virginia Electric and Power Company.

Description: Application of Virginia Electric and Power Company for Authorization Under Section 203 of the Federal Power Act and Requests for Waivers, Shortened Comment Period and Expedited Consideration.

Filed Date: 5/27/16.

Accession Number: 20160527-5265.

Comments Due: 5 p.m. ET 6/17/16.

Take notice that the Commission received the following electric rate filings:

Docket Numbers: ER10-1469-004; ER10-1467-004; ER10-1468-004; ER10-1459-008; ER13-785-003; ER13-713-003; ER10-1453-004.

Applicants: Cleveland Electric Illuminating Company, FirstEnergy Generation Mansfield Unit 1 Corp., FirstEnergy Generation, LLC, FirstEnergy Nuclear Generation, LLC, FirstEnergy Solutions Corp., Ohio Edison Company, The Toledo Edison Company, The Cleveland Electric Illuminating Company.

Description: Notice of change in status of the FirstEnergy Companies et al.

Filed Date: 5/27/16.

Accession Number: 20160527-5247.

Comments Due: 5 p.m. ET 6/17/16.

Docket Numbers: ER15-623-009.

Applicants: PJM Interconnection, L.L.C.

Description: Compliance filing: Compliance Filing pursuant to the May 10, 2016 Order on Rehearing and Compliance to be effective 4/1/2015.

Filed Date: 5/31/16.

Accession Number: 20160531-5509.

Comments Due: 5 p.m. ET 6/21/16.

Docket Numbers: ER16-923-002.

Applicants: Puget Sound Energy, Inc.

Description: Compliance filing: EIM Attachment O Compliance to be effective 7/25/2016.

Filed Date: 5/27/16.

Accession Number: 20160527-5209.

Comments Due: 5 p.m. ET 6/17/16.

Docket Numbers: ER16-1808-000.

Applicants: Williams Flexible Generation, LLC.

Description: Tariff Cancellation: Cancellation of Tariff to be effective 5/30/2016.

Filed Date: 5/27/16.

Accession Number: 20160527-5207.

Comments Due: 5 p.m. ET 6/17/16.

Docket Numbers: ER16-1809-000.

Applicants: NSTAR Electric Company.

Description: § 205(d) Rate Filing: First Amendment to Exelon West Medway II Design and Engineering Agreement to be effective 5/31/2016.

Filed Date: 5/31/16.

Accession Number: 20160531-5154.

Comments Due: 5 p.m. ET 6/21/16.

Docket Numbers: ER16-1810-000.

Applicants: Michigan Electric Transmission Company, LLC.

Description: Notice of Cancellation of Generator Interconnection and Operating Agreement of Michigan Electric Transmission Company, LLC.

Filed Date: 5/27/16.

Accession Number: 20160527-5254.

Comments Due: 5 p.m. ET 6/17/16.

Docket Numbers: ER16-1811-000.

Applicants: Southwest Power Pool, Inc.

Description: § 205(d) Rate Filing: 3204 KCP&L GMO and City of Rich Hill, MO Interconnection Agr to be effective 5/27/2016.

Filed Date: 5/31/16.

Accession Number: 20160531-5271.

Comments Due: 5 p.m. ET 6/21/16.

Docket Numbers: ER16-1812-000.

Applicants: Southwestern Electric Power Company.

Description: Informational Filing regarding postemployment benefits other than pensions and post-employment benefits of Southwestern Electric Power Company.

Filed Date: 5/27/16.

Accession Number: 20160527-5259.

Comments Due: 5 p.m. ET 6/17/16.

Docket Numbers: ER16-1813-000.

Applicants: New England Power Pool Participants Committee.

Description: § 205(d) Rate Filing: June 2016 Membership Filing to be effective 5/1/2016.

Filed Date: 5/31/16.

Accession Number: 20160531-5303.

Comments Due: 5 p.m. ET 6/21/16.

Docket Numbers: ER16-1814-000.

Applicants: Southwest Power Pool, Inc.

Description: § 205(d) Rate Filing: Revisions to Attachment M Appendix 1 to Update the Loss Factor for SPS to be effective 5/1/2016.

Filed Date: 5/31/16.

Accession Number: 20160531-5321.

Comments Due: 5 p.m. ET 6/21/16.

Docket Numbers: ER16-1815-000.

Applicants: Southern California Edison Company.

Description: § 205(d) Rate Filing: DSA, Technicast Feed-In-Tariff Project to be effective 7/31/2016.

Filed Date: 5/31/16.

Accession Number: 20160531-5433.

Comments Due: 5 p.m. ET 6/21/16.

Docket Numbers: ER16-1816-000.

Applicants: PJM Interconnection, L.L.C.

Description: § 205(d) Rate Filing: Original WMPA SA No. 4471, Queue No. AB1-119 to be effective 5/17/2016.

Filed Date: 5/31/16.

Accession Number: 20160531-5437.

Comments Due: 5 p.m. ET 6/21/16.

Docket Numbers: ER16-1817-000.

Applicants: Midcontinent Independent System Operator, Inc.

Description: Compliance filing: 2016-05-31_Attachment X External NRIS Compliance Filing to be effective 12/31/9998.

Filed Date: 5/31/16.

Accession Number: 20160531-5480.

Comments Due: 5 p.m. ET 6/21/16.

Docket Numbers: ER16-1818-000.

Applicants: South Eastern Generating Corp.

Description: Tariff Cancellation: Notice of Cancellation to be effective 6/1/2016.

Filed Date: 5/31/16.

Accession Number: 20160531-5499.

Comments Due: 5 p.m. ET 6/21/16.

Docket Numbers: ER16-1819-000.

Applicants: South Eastern Electric Development Corp.

Description: Tariff Cancellation: Notice of Cancellation to be effective 6/1/2016.

Filed Date: 5/31/16.

Accession Number: 20160531-5501.

Comments Due: 5 p.m. ET 6/21/16.

Docket Numbers: ER16-1820-000.

Applicants: PJM Interconnection, L.L.C.

Description: Tariff Cancellation: Notice of Cancellation of WMPA SA No. 3252, Queue No. W4-031 to be effective 7/22/2016.

Filed Date: 5/31/16.

Accession Number: 20160531-5502.

Comments Due: 5 p.m. ET 6/21/16.

Docket Numbers: ER16-1821-000.

Applicants: Utility Contract Funding II, L.L.C.

Description: Tariff Cancellation: Notice of Cancellation to be effective 6/1/2016.

Filed Date: 5/31/16.

Accession Number: 20160531-5503.

Comments Due: 5 p.m. ET 6/21/16.

Take notice that the Commission received the following public utility holding company filings:

Docket Numbers: PH16-7-000.

Applicants: Public Sector Pension Investment Board.

Description: Public Sector Pension Investment Board submits FERC 65-B Waiver Notification.

Filed Date: 5/27/16.

Accession Number: 20160527-5264.

Comments Due: 5 p.m. ET 6/17/16.

Take notice that the Commission received the following electric reliability filings:

Docket Numbers: RR16-4-000.

Applicants: North American Electric Reliability Corporation.

Description: North American Electric Reliability Corporation's Report of Comparisons of Budgeted to Actual Costs for 2015 for NERC and the Regional Entities.

Filed Date: 5/31/16.

Accession Number: 20160531-5442.

Comments Due: 5 p.m. ET 6/21/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2016.
Nathaniel J. Davis, Sr.,
Deputy Secretary.

[FR Doc. 2016-13444 Filed 6-7-16; 8:45 am]

BILLING CODE 6717-01-P